DEPARTMENT OF THE INTERIOR

Fish and Wildlife Service

Draft Template Safe Harbor Agreement, Draft Environmental Assessment, and Receipt of Applications for Enhancement of Survival Permits

AGENCY: Fish and Wildlife Service, Interior.

ACTION: Notice of availability and receipt of applications; request for comments.

SUMMARY: As part of ongoing recovery efforts for the endangered Columbia Basin distinct population segment of the pygmy rabbit (Brachylagus idahoensis), this notice advises the public that the U.S. Fish and Wildlife Service (Service or we), in cooperation with the Washington Department of Fish and Wildlife (WDFW), is making available for public review and comment a draft Template Safe Harbor Agreement (Agreement). The proposed Agreement addresses incidental take of Columbia Basin pygmy rabbits (CBPR) that could result from activities associated with ranching, farming, recreation, residential upkeep, conservation programs, and shrub steppe maintenance, restoration, and enhancement on an undeterminable number of non-Federal properties. The area covered by the proposed Agreement (Covered Area) includes portions of 6 counties in central Washington and totals approximately 2,650,000 acres. However, eligible properties that occur within the Covered Area and are most likely to be enrolled under the Agreement would primarily include those that have existing shrub steppe habitat and/or soil conditions that may be capable of supporting the species, either currently or in the foreseeable future. These lands, as well as adjacent properties that may receive intermittent use by CBPRs, such as for exploratory behavior or dispersal between suitable habitats, total approximately 750,000 acres. Implementation of the proposed Agreement would provide the opportunity for interested non-Federal and non-WDFW landowners and managers to voluntarily enroll their lands under the Agreement and receive an enhancement of survival permit pursuant to section 10(a)(1)(A) of the Endangered Species Act of 1973, as amended (ESA). In exchange for the incidental take authority that would be provided by issuance of permits, participants who enroll their lands under this Agreement would implement conservation measures that would be expected to provide a net conservation benefit to the CBPR. The duration of the proposed Agreement is 20 years. The duration of associated permits could be for shorter periods, but would not exceed the duration of the Agreement. More detailed descriptions of the background biological information, Covered Area, proposed covered activities, conservation measures, and expected net conservation benefits are provided in the draft Agreement and in the SUPPLEMENTARY INFORMATION section below.

This also announces the receipt and availability for public review and comment three applications for incidental take permits for the enhancement of survival for the CBPR in conjunction with the Agreement. These applications have been received from The Nature Conservancy, Mr. Dave Billingsley and Mr. Peter Lancaster (Applicants). Issuance of these permits would authorize incidental take of CBPRs above the existing baseline conditions of enrolled properties that may result from the Applicants' proposed activities. Additional applications are expected in the near future from other non-Federal and non-WDFW landowners and managers who propose to enroll their lands under the Agreement. Future applications received by the Service from other prospective participants to the Agreement will be provided for public review in future notices.

In accordance with Service responsibilities pursuant to the National Environmental Policy Act (NEPA), this notice also announces the availability, for public review, of a draft Environmental Assessment (EA) developed in conjunction with the proposed Agreement.

We request comments from the public on the proposed Agreement, current permit applications, and the draft EA, all of which are available for public review and comment. To review the documents, see “Availability of Documents” in the SUPPLEMENTARY INFORMATION section below.

DATES: All comments from interested parties must be received on or before October 10, 2006.

ADDRESSES: Written comments concerning this notice should be addressed to Susan Martin, Supervisor, U.S. Fish and Wildlife Service, Upper Columbia Fish and Wildlife Office, 11103 East Montgomery Drive, Spokane, Washington 99206. You may also send comments by facsimile at (509) 891-6748, or by electronic mail at fw1cbprabbit@fws.gov.

FOR FURTHER INFORMATION CONTACT: Chris Warren at (509) 893-8020, or Michelle Eames at (509) 893-8010.

SUPPLEMENTARY INFORMATION:

Availability of Documents

Copies of the draft documents and permit applications are available for public inspection, by appointment, during normal business hours at the Upper Columbia Fish and Wildlife Office (see ADDRESSES), or they may be viewed on the internet at the following address: http://www.fws.gov/easternwashington/. You may also request copies of the documents by contacting the Service's Upper Columbia Fish and Wildlife Office [see FOR FURTHER INFORMATION CONTACT]. The Service is furnishing this notice to provide the public, other State and Federal agencies, and tribes an opportunity to review and comment on these documents. All comments received will become part of the public record. If you wish us to withhold your name and/or address, you must state this prominently at the beginning of your comment. All comments received from organizations, businesses, or individuals representing organizations or businesses, are available for public inspection in their entirety.

Background

The pygmy rabbit is the smallest rabbit species, and one of only two rabbit species that digs its own burrows, in North America. They are typically found in shrub-steppe habitats that include tall, dense stands of sagebrush (Artemisia spp.) and that occur in relatively deep, loose soils suitable for the species' burrowing behavior. Pygmy rabbits are highly dependent on sagebrush for food, particularly during the winter, and, along with their burrows, for shelter and escape throughout the year.

The historic distribution of the pygmy rabbit included portions of Montana, Idaho, Wyoming, Utah, Nevada, California, Oregon, and Washington. The pygmy rabbit has been present within the Columbia Basin, a geographic area that extends from northern Oregon through eastern Washington, for over 100,000 years. This population segment, referred to as the CBPR and which is the subject of the Agreement, historically occurred only in central Washington and is believed to have been disjunct from the remainder of the species' range for at least 10,000 years. The distribution and abundance of the CBPR has declined dramatically since the mid-1990s. Surveys of the last known occupied site, located in southern Douglas County, have not detected any animals since mid-2004, indicating that the population may now be extirpated from the wild.

In 2001, WDFW captured as many of the remaining CBPRs as possible from the last known subpopulation and began a captive breeding program. The Service emergency-listed the CBPR under the ESA in 2001, and fully listed it as endangered in 2003. Major past threats to the CBPR include the loss and fragmentation of suitable shrub-steppe habitats. Major current threats are associated with the extremely small size of the remaining population, which has made it vulnerable to loss of genetic diversity and inbreeding depression. Inbreeding depression was evidenced in the captive population by the poor reproductive performance, declining genetic diversity, increased susceptibility to disease, and, possibly, skeletal abnormalities in the purebred animals. Intercrossing CBPRs with pygmy rabbits of the same taxonomic classification from Idaho helped to restore the genetic diversity and reduce the effects of inbreeding depression in the captive population. The inclusion of intercrossed animals with some minor level of non-Columbia Basin ancestry is considered necessary to achieve Federal recovery objectives for the CBPR in the wild.

WDFW, in conjunction with the Service, proposes to reintroduce captive CBPRs into suitable habitats at two recovery emphasis areas: one in southern Douglas County; and one in northern Grant County, Washington. The Service and WDFW anticipate that, as a likely result of planned reintroduction efforts, CBPRs may become established on non-Federal and/or non-WDFW properties, which prompted development of the proposed Agreement.

The primary objective of the Agreement is to facilitate collaboration between the Service, WDFW, and prospective participants to voluntarily implement conservation measures to benefit the CBPR. An additional objective of the Agreement is to provide incidental take coverage to participants through issuance of enhancement of survival permits, which will relieve them of additional section 9 liability under the ESA if implementation of the conservation measures results in increased numbers or distribution of CBPRs on their enrolled properties.

The proposed Agreement is a “template” in that it establishes general guidelines and identifies minimum management responsibilities for non-Federal/non-WDFW landowners and managers to participate in the Agreement. In addition, the proposed Agreement documents background biological information on the CBPR, ongoing conservation actions and Federal recovery objectives for the species, expected net conservation benefits, and the types of land use activities and eligible properties that may be covered by the Agreement. If the Agreement is signed by the Service and WDFW following public review and comment, the process to consider subsequent permit applications in the future will be significantly streamlined as permit applicants will be able to reference the approved Agreement. NEPA compliance also may be tiered. By streamlining the process and minimizing the time it requires to process additional ESA section 10(a)(1)(A) permit applications consistent with the Agreement, the Service and WDFW anticipate that more private landowners will be likely to participate and implement proactive conservation measures, which will enhance State and Federal recovery efforts for the CBPR.

The proposed Agreement clarifies management responsibilities and expectations of the Service, WDFW, and prospective participants. When signed, the Agreement may serve as the basis for additional enhancement of survival permit applications. To be considered for a permit, each participant will need to complete and submit to the Service a Federal Fish and Wildlife Permit Application Form. An issued permit would authorize incidental take of CBPRs that are above the baseline conditions of their enrolled property.

In addition to submitting a Permit application, prospective participants would also need to develop a Site Plan, in cooperation with the Service, that identifies the specific properties to be enrolled and documents the baseline conditions, existing and proposed future land-use activities, and agreed-upon conservation measures that would be expected to provide a net conservation benefit for the CBPR on the enrolled properties. Each prospective participant and the Service would need to sign the completed Site Plan, which will remain within the scope of, and tiered to, the proposed Agreement.

We anticipate that the proposed Agreement would result in the following benefits to the CBPR: (1) Appropriate habitats will be maintained on enrolled properties and be available for use by CBPRs released at the recovery emphasis areas; (2) habitats on enrolled properties will facilitate dispersal of newly released CBPRs and enhance connectivity of recovery emphasis areas; (3) new subpopulations of CBPRs may form on enrolled properties through natural population expansion; (4) additional wild CBPRs may be located on properties being considered for enrollment and be secured for captive breeding and/or translocation efforts, which will improve the overall recovery outlook for the species; (5) monitoring and future collection of biological information concerning the CBPR (e.g., dispersal, survival, productivity) will be improved through cooperative management efforts on enrolled properties; (6) research and adaptive management for the CBPR can be made more comprehensive if implemented at a broader scale through facilitated access to enrolled properties; and (7) successful implementation of cooperative, voluntary conservation measures will increase public awareness and support for CBPR recovery efforts.

This notice is provided pursuant to section 10(c) of the ESA and NEPA regulations (40 CFR 1506.6). The Service will evaluate the permit applications, associated documents, and comments submitted thereon to determine whether the proposed Agreement and permit applications meet the requirements of NEPA regulations and section 10(a) of the ESA. If it is determined that the requirements are met, the Agreement will be finalized and signed and these permits will be issued to the Applicants for incidental take of the covered species. The final NEPA and permit determinations will not be completed until after the end of the 30-day comment period, and will fully consider all public comments received during the comment period.

Dated: August 14, 2006.
Carolyn A. Bohan,
Acting Deputy Regional Director, Fish and Wildlife Service, Region 1, Portland, Oregon.

[FR Doc. E6-14773 Filed 9-6-06; 8:45 am]

BILLING CODE 4310-55-P